DEPARTMENT OF LABOR

Employment and Training Administration

[TA-W-74,081]

General Motors Vehicle Manufacturing Formerly Known as General Motors Corporation Shreveport Assembly Plant Including On-Site Leased Workers From Aerotek, Kelly Services and Voith Industrial Services, Inc., Formerly Known as Premier Manufacturing Support Services Shreveport Ramp Services, LLC, Dana Holding Corp., the Landing of GM, Filtration Services Group, LLC, BASF, G4S Secure Coalition, Seibert Powder Coating, and Advantis Occupational Health Shreveport, LA; Amended Certification Regarding Eligibility To Apply for Worker Adjustment Assistance

In accordance with Section 223 of the Trade Act of 1974, as amended (“Act”), 19 U.S.C. 2273, the Department of Labor issued a Certification of Eligibility to Apply for Worker Adjustment Assistance on July 27, 2010, applicable to workers of General Motors Vehicle Manufacturing, formerly known as General Motors Corporation, Shreveport Assembly Plant, including on-site leased workers from Aerotek and Kelly Services, Shreveport, Louisiana. The workers are engaged in the production of the Chevrolet Colorado, GMC Canyon and Hummer H-3 and H-3T vehicles. The notice was published in the Federal Register on August 13, 2010 (75 FR 49530). The notice was amended on April 4, 2011 and January 31, 2012 to include on-site leased workers from Voith Industrial Service, Inc., formerly known as Premier Manufacturing Support Services and Shreveport Ramp Services, LLC. The amended notices were published in the Federal Register on April 14, 2011 (76 FR 21035) and February 8, 2012 (77 FR 6587), respectively.

At the request of Louisiana State agency, the Department reviewed the certification for workers of the subject firm. The company reports that workers leased from Dana Holding Corp., The Landing of GM, Filtration Services Group, LLC, BASF, G4S Secure Coalition, Seibert Powder Coating and Advantis Occupational Health were employed on-site at the Shreveport, Louisiana location of General Motors Vehicle Manufacturing, formerly known as General Motors Corporation, Shreveport Assembly Plant. The Department has determined that these workers were sufficiently under the control of General Motors Vehicle Manufacturing, formerly known as General Motors Corporation, Shreveport Assembly Plant to be considered leased workers.

Based on these findings, the Department is amending this certification to include workers leased from the above mentioned firms working on-site at the Shreveport, Louisiana location of General Motors Vehicle Manufacturing, formerly known as General Motors Corporation, Shreveport Assembly Plant.

The amended notice applicable to TA-W-74,081 is hereby issued as follows:

All workers of General Motors Vehicle Manufacturing, formerly known as General Motors Corporation, Shreveport Assembly Plant, including on-site leased workers from Aerotek, Kelly Services and Voith Industrial Services, Inc., formerly known as Premier Manufacturing Support Services, Shreveport Ramp Services, LLC, Dana Holding Corp., The Landing of GM, Filtration Services Group, LLC, BASF, G4S Secure Coalition, Seibert Powder Coating and Advantis Occupational Health, Shreveport, Louisiana, who became totally or partially separated from employment on or after August 28, 2010, through July 27, 2012, and all workers in the group threatened with total or partial separation from employment on the date of certification through two years from the date of certification, are eligible to apply for adjustment assistance under Chapter 2 of Title II of the Trade Act of 1974, as amended.

Signed at Washington, DC, this 26th day of June 2012.
Michael W. Jaffe,
Certifying Officer, Office of Trade Adjustment Assistance.

[FR Doc. 2012-16743 Filed 7-9-12; 8:45 am]

BILLING CODE 4510-FN-P